ENVIRONMENTAL PROTECTION AGENCY

40 CFR Part 52

[CA 241-0241b; FRL-6854-4]

Revisions to the California State Implementation Plan, Sacramento Metropolitan Air Quality Management District

AGENCY: Environmental Protection Agency (EPA).

ACTION: Proposed rule.

SUMMARY: EPA is proposing to approve revisions to the Sacramento Metropolitan Air Quality Management Districts (SMAQMD) portion of the California State Implementation Plan (SIP). This revision concerns emergency episodes. We are proposing to approve a local rule to regulate emergency episodes under the Clean Air Act as amended in 1990 (CAA or the Act).

DATES: Any comments on this proposal must arrive by October 5, 2000.

ADDRESSES: Mail comments to Andy Steckel, Rulemaking Office Chief (AIR-4), U.S. Environmental Protection Agency, Region IX, 75 Hawthorne Street, San Francisco, CA 94105-3901.

You can inspect copies of the submitted SIP revisions and EPA's technical support documents (TSDs) at our Region IX office during normal business hours. You may also see copies of the submitted SIP revisions at the following locations:

California Air Resources Board, Stationary Source Division, Rule Evaluation Section, 2020 “L” Street, Sacramento, CA 95812.

Sacramento Metropolitan Air Quality Management District, 777 12th Street, 3rd Floor, Sacramento, California 95814-1908.

FOR FURTHER INFORMATION CONTACT: Cynthia G. Allen, Rulemaking Office (Air-4), U.S. Environmental Protection Agency, Region IX, (415) 744-1189.

SUPPLEMENTARY INFORMATION: This proposal addresses SMAQMD Rule 701. In the Rules and Regulations section of this Federal Register, we are approving this rule in a direct final action without prior proposal because we believe this SIP revision is not controversial. If we receive adverse comments, however, we will publish a timely withdrawal of the direct final rule and address the comments in subsequent action based on this proposed rule. We do not plan to open a second comment period, so anyone interested in commenting should do so at this time. If we do not receive adverse comments, no further activity is planned. For further information, please see the direct final action.

Dated: July 28, 2000.
Felicia Marcus,
Regional Administrator, Region IX.

[FR Doc. 00-22652 Filed 9-1-00; 8:45 am]

BILLING CODE 6560-50-P